DEPARTMENT OF ENERGY

[FE Docket Nos. 11-162-LNG, 15-67-LNG, 15-90-LNG, and 16-34-LNG]

Change in Control: Cameron LNG, LLC

AGENCY: Office of Fossil Energy, DOE.

ACTION: Notice of change in control.

SUMMARY: The Office of Fossil Energy (FE) of the Department of Energy (DOE) gives notice of receipt of a Notice of Proposed Change in Control (Notice) filed March 23, 2018, by Cameron LNG, LLC (Cameron LNG) in FE Docket Nos. 11-162-LNG, 15-67-LNG, 15-90-LNG, and 16-34-LNG. The Notice describes a proposed change in control of ENGIE, S.A., an indirect parent entity. The Notice was filed under section 3 of the Natural Gas Act (NGA).

DATES: Protests, motions to intervene, or notices of intervention, as applicable, and written comments are to be filed using procedures detailed in the Public Comment Procedures section no later than 4:30 p.m., Eastern time, May 24, 2018.

ADDRESSES:

Electronic Filing by email: fergas@hq.doe.gov.

Regular Mail U.S. Department of Energy (FE-34), Office of Regulation and International Engagement, Office of Fossil Energy, P.O. Box 44375, Washington, DC 20026-4375.

Hand Delivery or Private Delivery Services (e.g., FedEx, UPS, etc.) U.S. Department of Energy (FE-34), Office of Regulation and International Engagement, Office of Fossil Energy, Forrestal Building, Room 3E-042, 1000 Independence Avenue SW, Washington, DC 20585.

FOR FURTHER INFORMATION CONTACT: Larine Moore or Amy Sweeney, U.S. Department of Energy (FE-34), Office of Regulation and International Engagement, Office of Fossil Energy, Forrestal Building, Room 3E-042, 1000 Independence Avenue SW, Washington, DC 20585, (202) 586-9478; (202) 586-2627.

Cassandra Bernstein or Ronald (R.J.) Colwell, U.S. Department of Energy (GC-76), Office of the Assistant General Counsel for Electricity and Fossil Energy, Forrestal Building, 1000 Independence Avenue SW, Washington, DC 20585, (202) 586-9793; (202) 586-8499.

SUPPLEMENTARY INFORMATION:

Summary of Change in Control

Cameron LNG filed a Notice of Proposed Change in Control in the above-referenced dockets.¹ In the Notice, Cameron LNG states that it is a direct, wholly-owned subsidiary of Cameron LNG Holdings, LLC (Cameron Holdings). According to Cameron LNG, the following entities currently hold direct membership interests in Cameron Holdings: Sempra LNG Holdings II, LLC, 50.2% interest; ENGIE Cameron LNG Corporation, 16.6% interest; Mitsui & Co. Cameron LNG Investment LLC, 16.6% interest; and Japan LNG Investment, LLC, 16.6% interest.²

¹ Cameron LNG, LLC, FE Docket Nos. 11-162-LNG, et al., Statement of Proposed Change in Control (Mar. 23, 2018) [hereinafter Cameron LNG Notice.].

² See id. at 2.

Cameron LNG describes a proposed transaction involving ENGIE Cameron LNG Corporation (ENGIE Member).³ The ENGIE member is a Delaware corporation and an indirect, wholly owned subsidiary of ENGIE, S.A (ENGIE).⁴ Specifically, Cameron LNG states that another entity, Total S.A., is planning to acquire a portion of ENGIE's global LNG business (Proposed Transaction). The U.S. component of this Proposed Transaction would confer to Total S.A. a 100% indirect ownership interest in the ENGIE Member.⁵ Total S.A. and ENGIE contemplate that this Proposed Transaction will close by the end of June 2018.⁶

³ See id.

⁴ See id. at n.6.

⁵ Cameron LNG is advised that its described change in control may also require the approval of the Committee on Foreign Investment in the United States (CFIUS). DOE expresses no opinion regarding the need for review by CFIUS. Additional information may be obtained at: http://www.treasury.gov/resource-center/international/Pages/Committee-on-Foreign-Investment-in-US.aspx.

⁶ See Cameron LNG Notice at 3-6.

Additional details can be found in Cameron LNG's Notice, posted on the DOE/FE website at: https://www.energy.gov/sites/prod/files/2018/03/f50/Cameron%20LNG%20CIC%2003_23_18.pdf.

DOE/FE Evaluation

DOE/FE will review Cameron LNG's Notice in accordance with its Procedures for Changes in Control Affecting Applications and Authorizations to Import or Export Natural Gas (CIC Revised Procedures).⁷ Consistent with the CIC Revised Procedures, this Notice addresses only the authorizations granted to Cameron LNG to export liquefied natural gas (LNG) to non-free trade agreement (non-FTA) countries in DOE/FE Order Nos. 3391-A (FE Docket No. 11-162-LNG), 3797 (FE Docket No. 15-67-LNG), 3846 (FE Docket No. 15-90-LNG), and the non-FTA portion of the authorization issued in DOE/FE Order No. 3904 (FE Docket No. 16-34-LNG).⁸ If no interested person protests the change in control and DOE takes no action on its own motion, the change in control will be deemed granted 30 days after publication in the Federal Register. If one or more protests are submitted, DOE will review any motions to intervene, protests, and answers, and will issue a determination as to whether the proposed change in control has been demonstrated to render the underlying authorization inconsistent with the public interest.

⁷ 79 FR 65541 (Nov. 5, 2014).

⁸ Cameron LNG's Notice also applies to its FTA authorizations (see Cameron LNG Notice at 6), but DOE/FE has responded to that portion of the Notice separately pursuant to its Change in Control Procedures, 79 FR 65542.

Public Comment Procedures

Interested persons will be provided 15 days from the date of publication of this notice in the Federal Register in order to move to intervene, protest, and answer Cameron LNG's Notice. Protests, motions to intervene, notices of intervention, and written comments are invited in response to this notice only as to the change in control described in Cameron LNG's Notice, and only with respect to Cameron LNG's non-FTA authorizations in DOE/FE Order Nos. 3391-A, 3797, 3846, and 3904. All protests, comments, motions to intervene, or notices of intervention must meet the requirements specified by DOE's regulations in 10 CFR part 590.

Filings may be submitted using one of the following methods: (1) Preferred method: emailing the filing to fergas@hq.doe.gov, with the individual FE Docket Number(s) in the title line, or Cameron LNG Change in Control in the title line to include all applicable dockets in this notice; (2) mailing an original and three paper copies of the filing to the Office of Regulation and International Engagement at the address listed in ADDRESSES; or (3) hand delivering an original and three paper copies of the filing to the Office of Regulation and International Engagement at the address listed in ADDRESSES. All filings must include a reference to the individual FE Docket Number(s) in the title line, or Cameron LNG Change in Control in the title line to include all applicable dockets in this notice. Please note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

Cameron LNG's Notice and any filed protests, motions to intervene, notices of intervention, and comments are available for inspection and copying in the Office of Regulation and International Engagement docket room, Room 3E-042, 1000 Independence Avenue SW, Washington, DC 20585. The docket room is open between the hours of 8:00 a.m. and 4:30 p.m., Monday through Friday, except Federal holidays.

The Notice and any filed protests, motions to intervene, notices of intervention, and comments will also be available electronically by going to the following DOE/FE Web address: http://www.fe.doe.gov/programs/gasregulation/index.html.

Issued in Washington, DC, on May 3, 2018.
Amy Sweeney,
Director, Division of Natural Gas Regulation, Office of Fossil Energy.

[FR Doc. 2018-09873 Filed 5-8-18; 8:45 am]

BILLING CODE 6450-01-P